DEPARTMENT OF ENERGY

Agency Information Collection Extension

AGENCY: National Nuclear Security Administration, U.S. Department of Energy.

ACTION: Submission for Office of Management and Budget (OMB) review; comment request.

SUMMARY: The Department of Energy (DOE) has submitted an information collection request to the OMB for extension under the provisions of the Paperwork Reduction Act of 1995. The information collection requests a three-year extension of Assistance to Foreign Atomic Energy Activities, OMB Control Number 1901-0263. The proposed collection will implement the regulatory requirements for U.S. persons engaged in the export of unclassified nuclear technology and assistance to submit reports and applications to DOE. This information collection is necessary for the Secretary of Energy to execute his legal and regulatory responsibilities pursuant to the Atomic Energy Act of 1954, as amended (AEA).

DATES: Comments regarding this collection must be received on or before September 28, 2018. If you anticipate that you will be submitting comments, but find it difficult to do so within the period of time allowed by this notice, please advise the OMB Desk Officer of your intention to make a submission as soon as possible. The Desk Officer may be telephoned at (202) 395-4718.

ADDRESSES: Written comments should be sent to the DOE Desk Officer, Office of Information and Regulatory Affairs, Office of Management and Budget, New Executive Office Building, Room 10102, 735 17th Street NW, Washington, DC 20503; and

Katie Strangis, Policy Advisor, Office of Nonproliferation and Arms Control, NA-24, National Nuclear Security Administration, Department of Energy, 1000 Independence Avenue SW, Room 7F-075, Washington, DC 20585, Fax: (202) 586-6789, Email: part810@nnsa.doe.gov (Include “Paperwork Reduction Act” in the subject line).

Due to potential delays in DOE's receipt and processing of mail sent through the U.S. Postal Service, DOE encourages responders to submit comments electronically to ensure timely receipt.

FOR FURTHER INFORMATION CONTACT: Katie Strangis, Policy Advisor, Office of Nonproliferation and Arms Control, NA-24, National Nuclear Security Administration, Department of Energy, 1000 Independence Avenue SW, Room 7F-075, Washington, DC 20585, Fax: (202) 586-6789, Email: part810@nnsa.doe.gov (Include “Paperwork Reduction Act” in the subject line).

SUPPLEMENTARY INFORMATION: This information collection request contains: (1) OMB No.: 1901-0263; (2) Information Collection Request Title: Assistance to Foreign Atomic Energy Activities; (3) Type of Review: Extension; (4) Purpose: This collection of information is necessary in order to provide the Secretary of Energy with the appropriate information needed to make informed determinations regarding requests to directly or indirectly engage or participate in the development or production of special nuclear material outside the United States; (5) Annual Estimated Number of Respondents: 89; (6) Annual Estimated Number of Total Responses: 596; (7) Annual Estimated Number of Burden Hours: 1,788; (8) Annual Estimated Reporting and Recordkeeping Cost Burden: $178,600.

Statutory Authority: Sections 57 b.(2) and 161(c) of the AEA.

Signed in Washington, DC, on August 23, 2018.
Sean Oehlbert,
(Acting) Policy Director, Office of Nonproliferation and Arms Control, Department of Energy's National Nuclear Security Administration.

[FR Doc. 2018-18741 Filed 8-28-18; 8:45 am]

BILLING CODE 6450-01-P